FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Policy Impact Survey (FR 3075; OMB No. 7100-0362).

FOR FURTHER INFORMATION CONTACT:

Federal Reserve Board Clearance Officer—Nuha Elmaghrabi—Office of the Chief Data Officer, Board of Governors of the Federal Reserve System, Washington, DC 20551, (202) 452-3829.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements, and approved collection of information instrument(s) are available at https://www.reginfo.gov/public/do/PRAMain. These documents are also available on the Federal Reserve Board's public website at https://www.federalreserve.gov/apps/reportforms/review.aspx or may be requested from the agency clearance officer, whose name appears above.

Final Approval Under OMB Delegated Authority of the Extension for Three Years, Without Revision, of the Following Information Collection

Report title: Policy Impact Survey.

Agency form number: FR 3075.

OMB control number: 7100-0362.

Frequency: On occasion.

Respondents: Bank holding companies, savings and loan holding companies, any nonbank financial company that the Financial Stability Oversight Council has determined should be supervised by the Board, and the combined domestic operations of foreign banking organizations.

Estimated number of respondents: 14.

Estimated average hours per response: 700.

Estimated annual burden hours: 68,600.

General description of report: This survey collects information from certain types of institutions regulated by the Board in order to assess the effects of proposed, pending, or recently adopted policy changes at the domestic and international levels. The Board uses the survey to collect information used for certain quantitative impact studies (QISs) ¹ sponsored by financial stability bodies such as the Basel Committee on Banking Supervision (BCBS) and the Financial Stability Board. Recent collections have included the Basel III monitoring exercise, which monitors the global impact of the Basel III framework,² the global systemically important bank (G-SIB) exercise, which assesses firms' systemic risk profiles,³ and a survey of the domestic systemic risk footprint of large foreign banking organizations. Since the collected data may change from survey to survey, there is no fixed reporting form.

¹ A QIS is a survey of financial institutions that allows supervisors to assess the quantitative impact of policy changes.

² For more information on the Basel III monitoring exercise, including recent examples of QISs sponsored by BCBS and conducted by the Board, see www.bis.org/bcbs/qis/.

³ For more information on the G-SIB exercise, see www.bis.org/bcbs/gsib/.

Legal authorization and confidentiality: Information collected under the FR 3075 is authorized by the Board's reporting authorities, which are located in section 5(c) of the Bank Holding Company Act ⁴ for bank holding companies and their subsidiaries, section 10(b)(2) of the Home Owners' Loan Act ⁵ for savings and loan holding companies and their subsidiaries, section 161(a) of the Dodd-Frank Wall Street Reform and Consumer Protection Act ⁶ for nonbank financial companies supervised by the Board, section 8(a) of the International Banking Act and section 5(c) of the Bank Holding Company Act ⁷ for the combined domestic operations of certain foreign banking organizations, section 9 of the Federal Reserve Act ⁸ for state member banks, sections 25 and 25A of the Federal Reserve Act ⁹ for Edge and agreement corporations, and section 7(c)(2) of the International Banking Act and section 7(a) of the Federal Deposit Insurance Act ¹⁰ for U.S. branches and agencies of foreign banks. Response to the FR 3075 is voluntary.

⁴ 12 U.S.C. 1844(c).

⁵ 12 U.S.C. 1467a(b)(2).

⁶ 12 U.S.C. 5361(a).

⁷ 12 U.S.C. 3106(a) and 1844(c).

⁸ 12 U.S.C. 324.

⁹ 12 U.S.C. 602 and 625.

¹⁰ 12 U.S.C. 3105(c)(2) and 1817(a).

The questions asked on each survey will vary. The Board's ability to keep confidential responses to the FR 3075 must therefore be determined on a case-by-case basis. To the extent responses include nonpublic commercial or financial information, which is both customarily and actually treated as private by the respondent, such information may be kept confidential pursuant to exemption 4 of the Freedom of Information Act (FOIA).¹¹ Some survey responses may also contain information contained in or related to an examination of a financial institution, which may be kept confidential under exemption 8 of the FOIA.¹² To the extent a respondent submits personal, medical, or similar files, the disclosure of which would constitute an unwarranted invasion of privacy, the respondent may request confidential treatment pursuant to exemption 6 of the FOIA.¹³

¹¹ 5 U.S.C. 552(b)(4).

¹² 5 U.S.C. 552(b)(8).

¹³ 5 U.S.C. 552(b)(6).

Aggregate survey information from the FR 3075 is not considered confidential and may be cited in published material such as Board studies or working papers, proposed or final rules, professional journals, the Federal Reserve Bulletin, testimony and reports to the Congress, or other vehicles.

Current actions: On May 26, 2021, the Board published a notice in the Federal Register (86 FR 28345) requesting public comment for 60 days on the extension, without revision, of the Policy Impact Survey, FR 3075. The comment period for this notice expired on July 26, 2021. The Board did not receive any comments.

Board of Governors of the Federal Reserve System, September 29, 2021.
Michele Taylor Fennell,
Deputy Associate Secretary of the Board.

[FR Doc. 2021-21596 Filed 10-4-21; 8:45 am]

BILLING CODE 6210-01-P